DEPARTMENT OF THE INTERIOR

Bureau of Land Management

[LLNV952000 L14200000.BJ0000 241A; 11-08807; MO#4500022198; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management, Nevada State Office, 1340 Financial Blvd., P.O. Box 12000, Reno, Nevada 89520, 775-861-6541. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Plat of Survey of the following described lands was officially filed at the Nevada State Office, Reno, Nevada on February 15, 2011:

The plat, representing the dependent resurvey of a portion of the subdivisional lines, a portion of the subdivision-of-section lines of section 27 and a portion of the meanders of Lake Tahoe, and the further subdivision of section 27, Township 15 North, Range 18 East, Mount Diablo Meridian, Nevada, under Group No. 883, was accepted on February 11, 2011. This survey was executed to meet certain administrative needs of the U.S. Forest Service.

2. The Plat of Survey of the following described lands was officially filed at the Nevada State Office, Reno, Nevada on April 21, 2011:

The plat, representing the dependent resurvey of the Fifth Standard Parallel South, through a portion of Range 54 East and a portion of the subdivisional lines, and the subdivision of section 34, Township 20 South, Range 54 East, Mount Diablo Meridian, Nevada, under Group No. 897, was accepted on April 19, 2011. This survey was executed to meet the certain administrative needs of the Bureau of Land Management.

3. The Plat of Survey of the following described lands was officially filed at the Nevada State Office, Reno, Nevada on May 9, 2011:

The plat, in six (6) sheets, representing the dependent resurvey of a portion of the south boundary and a portion of the subdivisional lines, the subdivison of certain sections, and the survey of the meanders of portions of the 4144 foot contour line, Township 33 North, Range 33 East, of the Mount Diablo Meridian, Nevada, under Group No. 888, was accepted on April 19, 2011. This survey was executed to meet certain administrative needs of the Pershing County Water Conservation District, the State of Nevada and the Bureau of Reclamation.

4. The Plat of Survey of the following described lands was officially filed at the Nevada State Office, Reno, Nevada on May 31, 2011:

The plat, in two (2) sheets, representing the dependent resurvey of a portion of the subdivisional lines, the subdivision of section 8, and a metes-and-bounds survey in section 8, Township 14 North, Range 20 East, Mount Diablo Meridian, Nevada, under Group No. 903, was accepted on May 27, 2011. This survey was executed to meet certain administrative needs of the Bureau of Land Management.

6. The Plat of Survey of the following described lands was officially filed at the Nevada State Office, Reno, Nevada on June 16, 2011:

The plat, representing the dependent resurvey of a portion of the subdivisional lines and a portion of Mineral Survey No. 4025, and the subdivision of section 12 and a metes-and-bounds survey of Parcel A in section 12, Township 36 North, Range 37 East, Mount Diablo Meridian, Nevada, under Group No. 792, was accepted on June 14, 2011. This survey was executed to meet certain administrative needs of the Bureau of Land Management.

7. The Plats of Survey of the following described lands were officially filed at the Nevada State Office, Reno, Nevada on June 23, 2011:

The plat, in two (2) sheets, representing the dependent resurvey of the First Standard Parallel South through a portion of Range 70 East, portions of the east boundary and a portion of the subdivisional lines, the subdivision of sections 1 and 12 and a metes-and-bounds survey in section 1, Township 5 South, Range 70 East, of the Mount Diablo Meridian, Nevada, under Group 868, was accepted on June 21, 2011.

The plat, in two (2) sheets, representing the dependent resurvey of a portion of the subdivisional lines and a metes-and-bounds survey through sections 6 and 7, Township 5 South, Range 71 East, of the Mount Diablo Meridian, Nevada, under Group No. 868, was accepted on June 21, 2011. These surveys were executed to meet certain administrative needs of the State of Nevada.

The above-listed surveys are now the basic record for describing the lands for all authorized purposes. These surveys have been placed in the open files in the Bureau of Land Management, Nevada State Office and are available to the public as a matter of information. Copies of the surveys and related field notes may be furnished to the public upon payment of the appropriate fees.

Dated: July 7, 2011.
David D. Morlan,
Chief Cadastral Surveyor, Nevada.

[FR Doc. 2011-17826 Filed 7-14-11; 8:45 am]

BILLING CODE 4310-HC-P